DEPARTMENT OF ENERGY

Federal Energy Regulatory Commission

[Project No. 15109-000]

Turnagain Arm Tidal Energy Corp.; Notice of Preliminary Permit Application Accepted for Filing and Soliciting Comments, Motions To Intervene, and Competing Applications

On April 13, 2021, the Turnagain Arm Tidal Energy Corp filed an amended application for a preliminary permit, pursuant to section 4(f) of the Federal Power Act, proposing to study the feasibility of the proposed Turnagain Arm Tidal Electric Generation Project (TATEG) No. 15109-000, to be located on Turnagain Arm and adjacent lands of the Municipality of Anchorage and the Kenai Peninsula Borough. The sole purpose of a preliminary permit, if issued, is to grant the permit holder priority to file a license application during the permit term. A preliminary permit does not authorize the permit holder to perform any land-disturbing activities or otherwise enter upon lands or waters owned by others without the owners' express permission.

The proposed project would consist of the following: (1) Six 0.5-mile-long, 300-foot-wide tidal power stations, with five stations containing 40, 10-megawatt (MW) tidal-to-electrical energy generating units and one station containing 42, 10-MW tidal-to-electrical energy generating units for a total installed capacity of 2,420 MW; (2) a transmission network consisting of 29.81 miles of undersea transmission lines connecting the six power stations and coming onshore at Point Campbell in Anchorage and near Possession Point on Kenai Peninsula Borough land; (3) a 7.5-mile-long, aboveground transmission line extending from Point Campbell through South Anchorage to a control building and step-up facility in South Anchorage; (4) a 2.91-mile-long, 230-kilovolt (kV) aboveground transmission line extending from the Anchorage control building to a 40,000-square-foot industrial battery array with a storage capacity of 300 MW and then to the Chugach Electric Association substation in Anchorage; (5) a 0.2-mile-long, 230 kV aboveground transmission line extending from the control building to a 200,000-square-foot hydrogen electrolysis plant and storage yard located in South Anchorage with a processing capacity of up to 1.21-Gigawatts (GW); (6) a 34.8-mile-long, aboveground transmission line following an existing right-of-way extending from Possession Point to a control building and step-up facility in Nikiski; (7) a 2.75-mile-long, 230 kV aboveground transmission line extending from the Nikiski control building to the Homer Electric Association substation; and (8) appurtenant facilities. The proposed project would have an estimated average annual generation of 10,599,500 megawatt-hours.

Applicant Contact: Christopher D.L. Lee, 821 North St., Suite 207, Anchorage, Alaska, 99501; phone: (504) 875-8223; email: chrisdlee1@icloud.com.

FERC Contact: Kristen Sinclair; phone: (202) 502-6587; email: kristen.sinclair@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15109-000.

More information about this project, including a copy of the application, can be viewed or printed on the “eLibrary” link of Commission's website at http://www.ferc.gov/docs-filing/elibrary.asp. Enter the docket number (P-15109) in the docket number field to access the document. For assistance, contact FERC Online Support.

Dated: April 29, 2021.
Kimberly D. Bose,
Secretary.

[FR Doc. 2021-09355 Filed 5-3-21; 8:45 am]

BILLING CODE 6717-01-P